FEDERAL COMMUNICATIONS COMMISSION

[OMB 3060-0856]

Information Collection Being Submitted for Review and Approval to the Office of Management and Budget

AGENCY: Federal Communications Commission.

ACTION: Notice and request for comments.

SUMMARY: As part of its continuing effort to reduce paperwork burdens, and as required by the Paperwork Reduction Act (PRA) of 1995 (44 U.S.C. 3501-3520), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written comments should be submitted on or before June 10, 2016. If you anticipate that you will be submitting comments, but find it difficult to do so within the period of time allowed by this notice, you should advise the contacts below as soon as possible.

ADDRESSES: Direct all PRA comments to Nicholas A. Fraser, OMB, via email Nicholas_A._Fraser@omb.eop.gov; and to Nicole Ongele, FCC, via email PRA@fcc.gov and to Nicole.Ongele@fcc.gov. Include in the comments the OMB control number as shown in the SUPPLEMENTARY INFORMATION section below.

FOR FURTHER INFORMATION CONTACT: For additional information or copies of the information collection, contact Nicole Ongele at (202) 418-2991. To view a copy of this information collection request (ICR) submitted to OMB: (1) Go to the Web page http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the OMB control number of this ICR and then click on the ICR Reference Number. A copy of the FCC submission to OMB will be displayed.

SUPPLEMENTARY INFORMATION: OMB Control Number: 3060-0856.

Title: Universal Service—Schools and Libraries Universal Service. Program Reimbursement Forms.

Form Number(s): FCC Forms 472, 473 and 474.

Type of Review: Revision of a currently approved collection.

Respondents: Business or other for-profit entities, and state, local, or tribal government.

Number of Respondents and Responses: 24,700 respondents; 168,900 responses.

Estimated Time per Response: 1 hour per form.

Frequency of Response: On occasion, annual reporting requirement, and recordkeeping requirements.

Obligation to Respond: Required to obtain or retain benefits. Statutory authority for this information collection is contained in 47 U.S.C. 1, 4(i), 4(j), 201-205, 214, 254, 312(d), 312(f), 403, and 503(b) of the Communications Act of 1934, as amended.

Total Annual Burden: 168,900 hours.

Total Annual Cost: No cost.

Privacy Impact Assessment: No impact(s).

Nature and Extent of Confidentiality: The Commission does not request that respondents submit confidential information to the Commission. If the Commission requests applicants to submit information that the respondents believe is confidential, respondents may request confidential treatment under 47 CFR 0.459 of the Commission's rules.

Needs and Uses: The Commission seeks to revise OMB 3060-0856 to conform this information collection to changes implemented in the Report and Order and Further Notice of Proposed Rulemaking (E-Rate Modernization Order) (WC Docket No. 13-184, FCC 14-99, 79 FR 49160, August 19, 2014).

Collection of the information on FCC Form 472 is necessary to establish the process and procedure for an eligible applicant to seek reimbursement from the E-rate program for the discounts on services paid in full to a service provider. The Universal Service Administrative Company (USAC) reviews the information collected on FCC Form 472, along with invoices from the service provider, to verify the eligibility of the services for E-rate support, approve the amount that should be reimbursed, ensure that each service provider has provided discounted services within the current funding year for which it submits an invoice to USAC, and confirm that invoices submitted from service providers for the costs of discounted eligible services do not exceed the amount that has been approved.

Collection of information on FCC Form 473 is necessary to establish that the participating service provider is eligible to participate in the E-rate program, confirm that the invoice forms submitted by the service provide are in compliance with the Federal Communications Commission's E-rate rules, and enable the service provider to certify its compliance with the E-rate rules. The FCC Form 473 is also used by USAC to assure that the dollars paid out by the universal service fund go to eligible providers.

Collection of information on FCC Form 474 is necessary to establish the process and procedure for a service provider to seek payment for the discounted costs of services it provided to billed entities for eligible services. After receiving an invoice from the service provider, together with an FCC Form 474, USAC is able to verify that the eligible and approved amounts can be paid. The FCC Form 474 is also used to ensure that each service provider has provided discounted services within the current funding year for which it submits an invoice to USAC and that invoices submitted from service providers for the costs of discounted eligible services do not exceed the amount that has been approved.

This information collection is being revised pursuant to program and rule changes in the E-Rate Modernization Order that require the collection of information necessary to allow USAC to make direct payments to applicants, and add service provider certifications to the FCC Form 473, the Service Provider Annual Certification Form. The information collection is also being revised to accommodate USAC's new online portal and the E-Rate Modernization Order requirement that the forms in this collection be filed electronically.

All of the requirements contained in this information collection are necessary for the Commission to ensure compliance by applicants and/or vendors with the requirement of the E-rate program, to protect the program from waste, fraud and abuse and to evaluate the extent to which the E-rate program is meeting the statutory objectives specified in section 254(h) of the 1996 Act, and the Commission's own performance goals established in the E-Rate Modernization Order.

Federal Communications Commission.
Marlene H. Dortch,
Secretary.

[FR Doc. 2016-11015 Filed 5-10-16; 8:45 am]

BILLING CODE 6712-01-P